COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add services to the Procurement List that will be provided by the nonprofit agency employing persons who are blind or have other severe disabilities, and deletes products previously furnished by such agency.

DATES: Comments Must Be Received On Or Before: 5/20/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to provide the services listed below from the nonprofit agency employing persons who are blind or have other severe disabilities.

The following services are proposed for addition to the Procurement List for provision by the nonprofit agency listed:

Services

Service Type/Locations: Building Operations and Maintenance Services

GSA, PBS, Region 2, Theodore Roosevelt US Courthouse, South Wing, Emanuel Celler U.S. Courthouse, North Wing, 225 Cadman Plaza East, Brooklyn, NY

GSA, PBS, Region 2, U.S. Post Office and Conrad B. Duberstein, Bankruptcy Courthouse, 271 Cadman Plaza East, Brooklyn, NY

NPA: Fedcap Rehabilitation Services, Inc., New York, NY

Contracting Activity: GSA/Public Buildings Service, Brooklyn, NY

Deletions

The following products are proposed for deletion from the Procurement List:

Products

Calendars

NSN: 7530-01-587-9589—DAYMAX System, 2013, JR Planner, 6-hole, Burgundy

NSN: 7530-01-587-9730—DAYMAX System, 2013, Planner, 7-hole, Desert Camouflage

NSN: 7530-01-587-9730L—DAYMAX System, 2013, Planner, 7-hole, Desert Camouflage

NSN: 7530-01-587-9702—DAYMAX System, 2013, LE Planner, 3-hole, Navy

NSN: 7530-01-587-9713—DAYMAX System, 2013, JR Deluxe Planner, 6-hole, Digital Camouflage, Black

NSN: 7530-01-587-9716—DAYMAX System, 2013, GLE Planner, 7-hole, Navy

NSN: 7530-01-587-9716L—DAYMAX System, 2013, GLE Planner, 7-hole, Navy w/logo

NSN: 7530-01-587-9713L—DAYMAX System, 2013, JR Deluxe Planner, 6-hole, Digital Camouflage, Black w/logo

NSN: 7530-01-587-9702L—DAYMAX System, 2013, LE Planner, 3-hole, Navy w/logo

NSN: 7530-01-587-9639—DAYMAX System, 2013, GLE Planner, 7-hole, Burgundy

NSN: 7530-01-587-9671—DAYMAX System, 2013, GLE Planner, 7-hole, Black

NSN: 7530-01-587-9691—DAYMAX System, 2013, JR Deluxe Planner, 6-hole, Black

NSN: 7530-01-587-9698—DAYMAX System, 2013, JR Planner, 6-hole, Black

NSN: 7530-01-587-9698L—DAYMAX System, 2013, JR Planner, 6-hole, Black w/logo

NSN: 7530-01-587-9697—DAYMAX System, 2013, JR Planner, 6-hole, Navy

NSN: 7530-01-587-9697L—DAYMAX System, 2013, JR Planner, 6-hole, Navy w/logo

NSN: 7530-01-587-9691L—DAYMAX System, 2013, JR Deluxe Planner, 6-hole, Black w/logo

NSN: 7530-01-587-9671L—DAYMAX System, 2013, GLE Planner, 7-hole, Black w/logo

NSN: 7530-01-587-9639L—DAYMAX System, 2013, GLE Planner, 7-hole, Burgundy w/logo

NSN: 7530-01-587-9631—DAYMAX System, 2013, IE Planner, 3-hole, Navy

NSN: 7530-01-587-9631L—DAYMAX System, 2013, IE Planner, 3-hole, Navy w/logo

NSN: 7530-01-587-9610—DAYMAX System, 2013, IE Planner, 3-hole, Burgundy

NSN: 7530-01-587-9614—DAYMAX System, 2013, LE Planner, 3-hole, Black

NSN: 7530-01-587-9629—DAYMAX System, 2013, IE Planner, 3-hole, Black

NSN: 7530-01-587-9629L—DAYMAX System, 2013, IE Planner, 3-hole, Black w/logo

NSN: 7530-01-587-9614L—DAYMAX System, 2013, LE Planner, 3-hole, Black w/logo

NSN: 7530-01-587-9610L—DAYMAX System, 2013, IE Planner, 3-hole, Burgundy w/logo

NSN: 7530-01-587-9589L—DAYMAX System, 2013, JR Planner, 6-hole, Burgundy w/logo

NSN: 7530-01-587-9588—DAYMAX System, 2013, LE Planner, 3-hole, Burgundy

NSN: 7530-01-587-9588L—DAYMAX System, 2013, LE Planner, 3-hole, Burgundy w/logo

NSN: 7530-01-588-1508—DAYMAX System, 2014, Planner, 7-hole, Digital Camouflage

NSN: 7530-01-588-1508L—DAYMAX System, 2014, Planner, 7-hole, Digital Camouflage w/logo

NSN: 7510-01-545-3772—DAYMAX System, 2013, Calendar Pad, Type II

NSN: 7510-01-545-3779—DAYMAX System, 2013, Calendar Pad, Type I

NSN: 7530-01-545-3755—DAYMAX System, 2013, Appointment Refill

NSN: 7510-01-588-0112—DAYMAX System, 2013, Tabbed Monthly, JR, 6-hole

NSN: 7510-01-588-0127—DAYMAX System, 2013, Week at a View, GLE, 7-hole

NSN: 7510-01-588-0139—DAYMAX System, 2013, Month at a View, IE/LE, 3-hole

NSN: 7510-01-588-0148—DAYMAX System, 2013, Tabbed Monthly, IE/LE, 3-hole

NSN: 7510-01-588-0157—DAYMAX System, 2013, Day at a View, GLE, 7-hole

NSN: 7510-01-588-0162—DAYMAX System, 2013, Week at a View, IE/LE, 3-hole

NSN: 7510-01-588-0178—DAYMAX System, 2013, Tabbed Monthly, GLE, 7-hole

NSN: 7510-01-588-0186—DAYMAX System, 2013, Month at a View, GLE, 7-hole

NSN: 7510-01-588-0199—DAYMAX System, 2013, Day at a View, IE/LE, 3-hole

NSN: 7530-01-588-0104—DAYMAX System, 2013, DOD Planner, 3-hole, Burgundy

NSN: 7530-01-588-0104L—DAYMAX System, 2013, DOD Planner, 3-hole, Burgundy w/logo

NSN: 7530-01-588-0121—DAYMAX System, 2013, Planner, 7-hole, Woodland Camouflage

NSN: 7530-01-588-0121L—DAYMAX System, 2013, Planner, 7-hole, Woodland Camouflage w/logo

NSN: 7530-01-588-1523—DAYMAX System, 2013, Planner, 7-hole, Digital Camouflage

NSN: 7530-01-588-1523L—DAYMAX System, 2013, Planner, 7-hole, Digital Camouflage w/logo

NSN: 7510-01-589-0592—DAYMAX System, Replacement Binder, GLE, 7-hole, Zipper Closure, Digital Camouflage

NPA: Easter Seals Western and Central Pennsylvania, Pittsburgh, PA

Contracting Activity: General Services Administration, New York, NY

Barry S. Lineback,
Director, Business Operations.

[FR Doc. 2014-09006 Filed 4-18-14; 8:45 am]

BILLING CODE 6353-01-P